DEPARTMENT OF LABOR

Employment and Training Administration

[TA-W-73,376]

Wacker Neuson Corporation, a Subsidiary of Wacker Neuson SE, Menomonee Falls, WI; Notice of Affirmative Determination Regarding Application for Reconsideration

By application dated August 17, 2010, a company official requested administrative reconsideration of the affirmative determination regarding workers' eligibility to apply for Trade Adjustment Assistance (TAA) applicable to workers and former workers of the subject firm. The certification of eligibility was issued on July 30, 2010. The Notice of determination was published in the Federal Register on August 13, 2010 (75 FR 49530). The workers produce a variety of construction equipment and are not separately identifiable by product line.

The initial investigation resulted in a positive determination based on the findings that a significant proportion or number of the workers at the subject firm were totally or partially separated, or threatened with such separation, that the subject firm has shifted to a foreign country the production of articles like or directly competitive with the construction equipment produced by the workers, and that this shift of production contributed importantly to worker group separations at the subject firm.

In the request for reconsideration, the company official states that the shift abroad did not contribute importantly to worker separations at the subject firm because the article shifted required only a few workers and that once the work was shifted abroad, the workers were reassigned to other product lines. The company official further states that the separated workers have been recalled to work because the production of the other lines have increased despite the shift of production of the one line of construction equipment to the Philippines.

The Department has carefully reviewed the request for reconsideration and the existing record, and has determined that the Department will conduct further investigation to determine whether the workers do meet the eligibility requirements of the Trade Act of 1974, as amended.

Conclusion

After careful review of the application, I conclude that the claim is of sufficient weight to justify reconsideration of the U.S. Department of Labor's prior decision. The application is, therefore, granted.

Signed at Washington, DC, this 18th day of August, 2010.
Del Min Amy Chen,
Certifying Officer, Office of Trade Adjustment Assistance.

[FR Doc. 2010-21398 Filed 8-27-10; 8:45 am]

BILLING CODE 4510-FN-P